DEPARTMENT OF THE INTERIOR

Fish and Wildlife Service

50 CFR Part 17

[Docket No. FWS-HQ-ES-2016-0076; 4500030115]

RIN 1018-BB33

Endangered and Threatened Wildlife and Plants; Listing Determinations for Five Poecilotheria Tarantula Species From Sri Lanka

AGENCY: Fish and Wildlife Service, Interior.

ACTION: Proposed rule.

SUMMARY: We, the U.S. Fish and Wildlife Service (Service), announce a proposal to list the following five tarantula species under the Endangered Species Act of 1973, as amended (Act): Poecilotheria fasciata, P. ornata, P. smithi, P. subfusca, and P. vittata. This document also serves as the 12-month finding on a petition to list these species. After review of the best available scientific and commercial information, we find that listing each of these species is warranted and propose listing all of them as endangered species.

DATES: We will accept comments received or postmarked on or before February 13, 2017. Comments submitted electronically using the Federal eRulemaking Portal (see ADDRESSES below) must be received by 11:59 p.m. Eastern Time on the closing date. We must receive requests for public hearings, in writing, at the address shown in FOR FURTHER INFORMATION CONTACT by January 30, 2017.

ADDRESSES: You may submit comments by one of the following methods:

(1) Electronically: Go to the Federal eRulemaking Portal: http://www.regulations.gov. In the Search box, enter FWS-HQ-ES-2016-0076, which is the docket number for this rulemaking. Then, in the Search panel on the left side of the screen, under the Document Type heading, click on the Proposed Rules link to locate this document. You may submit a comment by clicking on “Comment Now!”

(2) By hard copy: Submit by U.S. mail or hand-delivery to: Public Comments Processing, Attn: FWS-HQ-ES-2016-0076; U.S. Fish & Wildlife Service Headquarters, MS: BPHC, 5275 Leesburg Pike, Falls Church, VA 22041-3803. We request that you send comments only by the methods described above. We will post all comments on http://www.regulations.gov. This generally means that we will post any personal information you provide us (see Public Comments below for more information).

FOR FURTHER INFORMATION CONTACT: Janine Van Norman, Chief, Branch of Foreign Species, Ecological Services, U.S. Fish and Wildlife Service, MS: ES, 5275 Leesburg Pike, Falls Church, VA 22041-3803; telephone, 703-358-2171; facsimile, 703-358-1735. Persons who use a telecommunications device for the deaf (TDD) may call the Federal Information Relay Service (FIRS) at 800-877-8339.

SUPPLEMENTARY INFORMATION:

Executive Summary

Why we need to publish a rule. Under the Act, if a species is determined to be an endangered or threatened species throughout all or a significant portion of its range, we are required to promptly publish a proposal in the Federal Register and make a determination on our proposal within 1 year. Listing a species as an endangered or threatened species can only be completed by issuing a rule.

This document proposes the listing of the tarantula species Poecilotheria fasciata, P. ornata, P. smithi, P. subfusca, and P. vittata as endangered species. This proposed rule assesses the best available information regarding status of and threats to these named species.

The basis for our action. Under the Act, we can determine that a species is an endangered or threatened species based on any one or more of five factors or the cumulative effects thereof: (A) The present or threatened destruction, modification, or curtailment of its habitat or range; (B) Overutilization for commercial, recreational, scientific, or educational purposes; (C) Disease or predation; (D) The inadequacy of existing regulatory mechanisms; or (E) Other natural or manmade factors affecting its continued existence. We have determined that P. fasciata, P. ornata, P. smithi, P. subfusca, and P. vittata are in danger of extinction due to ongoing habitat loss and degradation and the cumulative effects of this and other threat factors. One species, P. smithi, is also in danger of extinction due to the effects of stochastic (random) processes.

We will seek peer review. We will seek comments from independent specialists to ensure that our designation is based on scientifically sound data, assumptions, and analyses. We will invite these peer reviewers to comment on our listing proposal. Because we will consider all comments and information received during the comment period, our final determinations may differ from this proposal.

Information Requested

Public Comments

Our intent, as required by the Act, is to use the best available scientific and commercial data as the foundation for all endangered and threatened species classification decisions. Further, we want any final rule resulting from this proposal to be as accurate and effective as possible. Therefore, we invite the range country, tribal and governmental agencies, the scientific community, industry, and other interested parties to submit comments regarding this Proposed Rule. Comments should be as specific as possible.

Before issuing a final rule to implement this proposed action, we will take into account all comments and any additional relevant information we receive. Such communications may lead to a final rule that differs from our proposal. For example, new information provided may lead to a threatened status instead of an endangered status for some or all of the species addressed in this proposed rule, or we may determine that one or more of these species do not warrant listing based on the best available information when we make our determination. All comments, including commenters' names and addresses, if provided to us, will become part of the administrative record. For each of the five species, we particularly seek comments concerning:

(1) The species' biology, ranges, and population trends, including:

(a) Biological or ecological requirements of the species, including habitat requirements for feeding, breeding, and sheltering;

(b) Genetics and taxonomy;

(c) Historical and current range including distribution patterns;

(d) Historical and current population levels, and current and projected trends; and

(e) Past and ongoing conservation measures for the species, its habitat or both.

(2) Factors that may affect the continued existence of the species, which may include habitat modification or destruction, overutilization, disease, predation, the inadequacy of existing regulatory mechanisms, or other natural or manmade factors.

(3) Biological, commercial trade, or other relevant data concerning any threats (or lack thereof) to the species and existing regulations that may be addressing those threats.

(4) Additional information concerning the historical and current status, range, distribution, and population size of the species, including the locations of any additional populations of the species.

Please include sufficient information with your submission (such as scientific journal articles or other publications) to allow us to verify any scientific or commercial information you include.

Please note that submissions merely stating support for or opposition to the action under consideration without providing supporting information, although noted, will not be considered in making a determination, as section 4(b)(1)(A) of the Act directs that determinations as to whether any species is a threatened or endangered species must be made “solely on the basis of the best scientific and commercial data available.”

You may submit your comments and materials concerning this proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov, or by appointment, during normal business hours, at the U.S. Fish and Wildlife Service, Headquarters Office (see FOR FURTHER INFORMATION CONTACT).

Public Hearing

Section 4(b)(5) of the Act provides for one or more public hearings on this proposal, if requested. Requests must be received within 45 days after the date of publication of this proposed rule in the Federal Register. Such requests must be sent to the address shown in FOR FURTHER INFORMATION CONTACT. We will schedule public hearings on this proposal, if any are requested, and announce the dates, times, and places of those hearings, as well as how to obtain reasonable accommodations, in the Federal Register and local newspapers at least 15 days before the hearing.

Peer Review

In accordance with our joint policy on peer review published in the Federal Register on July 1, 1994 (59 FR 34270), we will solicit the expert opinion of at least three appropriate and independent specialists for peer review of this proposed rule. The purpose of peer review is to ensure that our listing determinations are based on scientifically sound data, assumptions, and analyses. We will send peer reviewers copies of this proposed rule immediately following publication in the Federal Register. We will invite peer reviewers to comment, during the public comment period, on the specific assumptions and conclusions regarding the proposed listing status of each of the five tarantula species. We will summarize the opinions of these reviewers in the final decision document, and we will consider their input and any additional information we receive, as part of our process of making a final decision on the proposal.

Previous Federal Action

We received a petition, dated October 29, 2010, from WildEarth Guardians requesting that the following 11 tarantula species in the genus Poecilotheria be listed under the Act as endangered or threatened: Poecilotheria fasciata, P. formosa, P. hanumavilasumica, P. metallica, P. miranda, P. ornata, P. pederseni, P. rufilata, P. smithi, P. striata, and P. subfusca. The petition identified itself as such and included the information as required by 50 CFR 424.14(a). We published a 90-day finding on December 3, 2013 (78 FR 72622), indicating that the petition presents substantial scientific and commercial information indicating that listing these 11 species may be warranted. At that time we also (1) notified the public that we were initiating a review of the status of these species to determine if listing them is warranted, (2) requested from the public scientific and commercial data and other information regarding the species, and (3) notified the public that at the conclusion of our review of the status of these species, we would issue a 12-month finding on the petition, as provided in section 4(b)(3)(B) of the Act. This document represents our review and determinations of the status of the five petitioned species that are endemic to Sri Lanka (Poecilotheria fasciata, P. ornata, P. pederseni, P. smithi, and P. subfusca), our publication of our 12-month finding on these five species, and our proposed rule to list these species. We will issue our determinations on other tarantula species in the genus Poecilotheria separately after we complete our review.

Background

Taxonomy and Species Descriptions

Poecilotheria is a genus of arboreal spiders endemic to Sri Lanka and India. The genus belongs to the family Theraphosidae, often referred to as tarantulas, within the infraorder Mygalomorphae (Table 1). As with most theraphosid genera, Poecilotheria is a poorly understood genus. The taxonomy has never been studied using modern DNA technology; therefore, species descriptions are based solely on morphological characteristics. Consequently, there have been several revisions, additions, and subtractions to the list of Poecilotheria species over the last 20 years (Nanayakkara 2014a, pp. 71-72; Gabriel and Gallon 2013, entire).

The World Spider Catalog (2016, unpaginated) currently recognizes 14 species of Poecilotheria. The Integrated Taxonomic Information System currently identifies 16 species in the genus, based on the 2011 version of the same catalog. Because the World Spider Catalog is the widely accepted authority on spider taxonomy, we consider the Poecilotheria species recognized by the most recent (2016) version of this catalog to be valid. Based on the World Spider Catalog, all five of the petitioned species are considered valid taxon, though P. pederseni is now considered a junior synonym to the currently accepted name P. vittata (Table 1). Therefore, in the remainder of this document we refer to this species as P. vittata. Further, all five of these species have multiple common names (see WildEarth Guardians 2010, p. 4) and are, therefore, referred to by their scientific names throughout this document.

Table 1—Scientific Classification of Five Sri Lankan Poecilotheria Species Petitioned for Listing as Endangered or Threatened Under the Act
[See 78 FR 72662, December 3, 2013]
[Synonyms are in parentheses]
Scientific Classification
KINGDOM | Animalia.
PHYLUM | Arthropoda.
SUBPHYLUM | Chelicerata.
CLASS | Arachnida.
ORDER | Araneae.
INFRAORDER | Mygalomorphae.
FAMILY | Theraphosidae.
GENUS | Poecilotheria.
SPECIES | P. fasciata, P. ornata, P. smithi (P. pococki), P. subfusca (P. bara, P. uniformis), P. vittata (P. pederseni).

Poecilotheria species are among the largest spiders in the world, with body lengths of 4 to 9 centimeters (1.5 to 3.5 inches) and maximum adult leg spans varying from 15 to 25 centimeters (6 to 10 inches) (Nanayakkara 2014a, pp. 94-129; Molur et al. 2006, p. 23). They are known for their very fast movements and potent venom that, in humans, typically causes extended muscle cramps and severe pain (Fuchs 2014, p. 75; Nanayakkara and Adikaram 2013, p. 53). They are hairy spiders and have striking coloration, with dorsal color patterns of gray, black, brown, and in one case, a metallic blue. Ventral coloration of either sex is typically more of the same with the exception of the first pair of legs, which often bear bright yellow to orange aposematic (warning) markings that are visible when the spider presents a defensive display. Mature spiders exhibit some sexual dimorphism with mature males having a more drab coloration and being significantly smaller than the adult females (Nanayakkara 2014a, entire; Pocock 1899, pp. 84-86).

The primary characteristics used to distinguish Poecilotheria species are ventral leg markings (Gabriel 2010 p. 13, citing several authors). Some authors indicate that identification via leg markings is straightforward for most Poecilotheria species (Nanayakkara 2014a, pp. 74-75; Gabriel 2011a, p. 25). However, the apparent consistent leg patterns observed in adults of a species could also be a function of specimens being collected from a limited number of locations (Morra 2013, p. 129). During field surveys, researchers found more variation than suggested by published species descriptions and indicated that identifying Poecilotheria species is not as straightforward as suggested by current descriptions (Molur et al. 2003, unpaginated). Reports of inadvertent production of hybrids within the tarantula trade (see Gabriel 2011a, p. 26) also indicate a degree of difficulty in identification of adult specimens. Immature spiders (juveniles) lack the variation in coloring found in adults. As a result, they are difficult to differentiate visually; genetic analysis may be the only way to reliably identify juveniles to species (Longhorn 2014a, unpaginated).

Captive Poecilotheria

Poecilotheria species are commonly bred in captivity by amateur hobbyists as well as vendors, and are available as captive-bred young in the pet trade in the United States, Europe, and elsewhere (see Trade). However, while rearing and keeping of captive individuals by hobbyists and vendors has provided information on life history of these species, these captive individuals hold limited conservation value to the species in the wild. Individuals in the pet trade descend from wild individuals from unknown locations, have undocumented lineages, come from limited stock (e.g., see Gabriel 2012, p. 18) and are bred without knowledge or consideration of their genetics. They also likely include an unknown number of hybrid individuals resulting from intentional crosses, or unintentional crosses resulting from confusion and difficulty in species taxonomy and identification (Gabriel 2011a, pp. 25-26; Gabriel et al. 2005, p. 4; Gabriel 2003, pp. 89-90). Further, many are likely several generations removed from wild ancestors and thus may be inbred or maladapted to conditions in the wild. In short, captive individuals held or sold as pets do not adhere to the IUCN guidelines for reintroductions and other conservation translocations (IUCN 2013, entire). Further, we are not aware of any captive-breeding programs for Poecilotheria that adhere to IUCN guidelines. Because (1) the purpose of our status assessments is to determine the status of the species in the wild, and (2) captive individuals in the hobby or pet trade have low value for conservation programs or for reintroduction purposes, we place little weight on the status of captive individuals in our assessment of the status of the five petitioned Poecilotheria species endemic to Sri Lanka.

Tarantula General Biology

Tarantulas possess life-history traits markedly different from most spiders and other arthropods (Bond et al. 2006, p. 145). They are long-lived, have delayed sexual maturity, and most are habitat specialists that are extremely sedentary. They also have poor dispersal ability because their mode of travel is limited to walking, and they typically do not move far from the area in which they are born. As a result, the distribution of individuals tends to be highly clumped in suitable microhabitats (a smaller habitat within a larger habitat), populations are extremely genetically structured, and the group shows a high level of endemism (species restricted to a particular geographical location) (Ferreti et al. 2014, p. 2; Hedin et al. 2012, p. 509, citing several sources; Bond et al. 2006, pp. 145-146, citing several sources).

Tarantulas are primarily nocturnal and typically lead a hidden life, spending much of their time concealed inside burrows or crevices (retreats) that provide protection from predators and the elements (Foelix 2011, p. 14; Molur et al. 2003, unpaginated; Gallon 2000, unpaginated). They are very sensitive to vibrations and climatic conditions, and usually don't come out of their retreats in conditions like rains, wind, movement, or excessive light (Molur et al. 2003, unpaginated). Tarantulas are generalist predators that sit and wait for passing prey near the entrance of their retreats (Gallon 2000, unpaginated). With the exception of reproductive males that wander in search of females during the breeding season, they leave their retreat only briefly for capturing prey, and quickly return to it at the slightest vibration or disturbance (Foelix 2011, p. 14; Stotley and Shillington 2009, pp. 1210-1211; Molur et al. 2003, unpaginated). Tarantulas generally inhabit a suitable retreat for extended periods and may use the same retreat for years (Stotley and Shilling 2009, pp. 1210-1211; Stradling 1994, p. 87). Most tarantulas are solitary, with one spider occupying a retreat (Gallon 2000, unpaginated).

The lifestyle of adult male tarantulas differs from that of adult females and juveniles. Females and juveniles are sedentary, spending most of their time in or near their retreat. Adult females are also long-lived, and continue to grow, molt, and reproduce for several years after reaching maturity (Ferreti et al. 2014, p. 2, citing several sources; Costa and Perez-Miles 2002, p. 585, citing several sources; Gallon 2000, unpaginated). They are capable of producing one brood per year although they do not always do so (Ferreti et al. 2014, p. 2; Stradling 1994, pp. 92-96). Males have shorter lifespans than females and, after reaching maturity, no longer molt and usually only live one or two breeding seasons (Costa and Perez-Miles 2002, p. 585, Gallon 2000, unpaginated). Further, on reaching maturity, males leave their retreats to wander in search of receptive females with which to mate (Stotley and Shillington 2009, pp. 1210-1211). Males appear to search the landscape for females randomly and, at short range, may be able to detect females through contact sex-pheromones on silk deposited by the female at the entrance of her retreat (Ferreti et al. 2013, pp. 88, 90; Janowski-Bell and Hommer 1999, pp. 506, 509; Yanez et al. 1999, pp. 165-167; Stradling 1994, p. 96). Males may cover relatively large areas when searching for females. Males of a ground-dwelling temperate species (Aphonopelma anax) are reported covering search areas up to 29 ha (72 acres), though the mean size of areas searched is much smaller (1.1 ± 0.5 ha one year and 8.8 ± 2.5 ha another year) (Stotley and Shillington 2009, p. 1216).

When a male locates a receptive female, the two will mate in or near the entrance to the female's retreat. After mating, the female returns to her retreat where she eventually lays eggs within an egg-sac and tends the eggs until they hatch. Spiderlings reach maturity in one or more years (Gallon 2000, unpaginated).

Poecilotheria Biology

Limited information is available on Poecilotheria species in the wild. However, they appear to be typical tarantulas in many respects. However, they differ from most tarantulas in that they are somewhat social (discussed below) and reside in trees rather than ground burrows (see Microhabitat).

Poecilotheria species are patchily distributed (Siliwal et al. 2008, p. 8) and prey on a variety of insects, including winged termites, beetles, grasshoppers, and moths, and occasionally small vertebrates (Das et al. 2012, entire; Molur et al. 2006, p. 31; Smith et al. 2001, p. 57).

We are not aware of any information regarding the reproductive success of wild Poecilotheria species. However, reproduction may be greatly reduced during droughts (Smith et al. 2001, pp. 46, 49). Additionally, given the apparently random searching for females by male tarantulas, successful mating of females likely depends on the density of males in the vicinity. In the only field study conducted on an arboreal tropical tarantula (Avicularia avicularia in Trinidad), less than half of adult females produced eggs in the same year despite the fact that they were in close proximity to each other and exhibited the same weight gain, possibly due to a failure to mate (Stradling 1994, p. 96).

Time to maturity in Poecilotheria species varies and is influenced by the temperature at which the young are raised and amount of food provided (Gabriel 2006, entire). Based on observations of captive Poecilotheria, males mature from spiderlings to adults in 11 to16 months (Gabriel 2011b, P. 101; Gabriel 2005, entire). Females can mature within 14 months and generally live an additional 60 to 85 months after maturing (Gabriel 2012, p. 19; Government of Sri Lanka and Government of the United States 2000, p. 3), although they have been reported living up to 14 years (Gallon 2012, p. 69). Females lay about 50 to 100 eggs, 5 to 6 months after mating (Nanayakarra 2014a, p. 79; Gabriel 2011b, entire; Gabriel 2005, p. 101). In captivity, generation time appears to be roughly 2-3 years (see Gabriel 2011b, entire; Gabriel 2006, p. 96; Gabriel 2005, entire). While captive individuals provide some indication of potential growth, longevity, and reproductive capacity of wild individuals, these variables are likely to vary with conditions in the wild. Poecilotheria are ectotherms and, as such, their physiological and developmental processes including growth and reproduction are strongly influenced by body temperature and it is likely that captive-rearing of these species is primarily done under ideal environmental conditions for reproduction and growth.

Unlike most tarantulas, which are solitary, most Poecilotheria species display a degree of sociality. Adult females often share their retreat with their spiderlings. Eventually as the young mature, they disperse to find denning areas of their own. Occasionally young remain on their natal tree to breed, or three to four adult females will share the same retreat (Nanayakkara 2014a, pp. 74, 80). These semi-social behaviors are believed to be a response to a lack of availability of suitable habitat (trees) in which individuals can reside (Nanayakkara 2014a, pp. 74, 80; Gallon 2000, unpaginated).

Poecilotheria Habitat

Microhabitat

Poecilotheria occupy preexisting holes or crevices in trees or behind loose tree bark (Molur et al. 2006, p. 31; Samarawckrama et al. 2005; Molur et al. 2003 unpaginated; Kirk 1996, pp. 22-23). Individuals of some species are also occasionally found in grooves or crevices in or on other substrates such as rocks or buildings that are close to wooded areas (Samarawckrama et al. 2005, pp. 76, 83; Molur et al. 2003, unpaginated). In a survey in Sri Lanka, 89 percent (31) of Poecilotheria spiders were found in or on trees, while 11 percent (4) were found in or on buildings (Samarawckrama et al. 2005, p. 76). Poecilotheria species are said to have a preference for residing in old, established trees with naturally occurring burrows (Nanayakkara 2014a, p. 86). Some species also appear to prefer particular tree species (Nanayakkara 2014a, p. 84; Samarawckrama et al. 2005, p. 76).

Macrohabitat

Most Poecilotheria species occur in forested areas, although some occasionally occur in other treed habitats such as plantations (Nanayakkara 2014a, p. 86; Molur et al. 2006, p. 10; Molur et al 2003, entire; Smith et al. 2001, entire). Poecilotheria are less abundant in degraded forest (Molur et al. 2004, p. 1665). Less complex, degraded forests may contain fewer trees that provide adequate retreats for these species and less cover for protection from predators and the elements. Trees with broad, dense canopy cover likely provide Poecilotheria in hotter, dryer habitats protection from heat and desiccation (Siliwal 2008, pp. 12, 15). We provide additional, species-specific information on habitat below.

Sri Lanka

Sri Lanka is an island nation about 65,610 square kilometers (km²) (25,332 square miles (mi²)) in area (Weerakoon 2012, p. xvii), or about the size of West Virginia (Fig. 1). The variation in topography, soils, and rainfall on the island has resulted in a diversity of ecosystems with high levels of species endemism (Government of Sri Lanka (GOSL) 2014, pp. xiv-xv). Sri Lanka, together with the Western Ghats of India, is identified as a global biodiversity hotspot, and is among the eight “hottest hotspots,” (Myers et al. 2000, entire).

Sri Lanka consists of a mountainous region (central highlands), reaching 2,500 m in elevation, in the south-central part of the island surrounded by broad lowland plains (GOSL 2012, p. 2a-3-141) (Fig. 2). The country has a tropical climate characterized by two major monsoon periods: The southwest monsoon from May to September and the northeast monsoon from December to February (GOSL 2012, pp. 7-8).

Sri Lanka's central highlands create a rain shadow effect that gives rise to two pronounced climate zones—the wet zone and dry zone—and a less extensive intermediate zone between the two (Ministry of Environment—Sri Lanka (MOE) 2010, pp. 21-22) (Fig. 2). Small arid zones also occur on the northwestern and southeastern ends of the country (Nanayakkara 2014a, p. 22). Annual rainfall ranges from less than 1,000 millimeters (mm) (39.4 inches (in)) in the arid zone to over 5,000 mm (197 in) in the central highlands (Jayatillake et al. 2005, pp. 66-67). Mean annual temperature ranges from 27 degrees Celsius (°C) (80.6 degrees Fahrenheit (°F)) in the lowlands to 15 °C (59 °F) in the highlands (Eriyagama et al. 2010, p. 2).

The wet zone is located in the southwestern quarter of the island, where high annual rainfall is maintained throughout the year by rain received during both monsoons and during inter-monsoonal periods (MOE 2010, pp. 21-22) (Fig. 2). The wet zone is divided into low, mid, and montane regions based on altitude (Table 2). The dry zone, in which most of the land area of Sri Lanka occurs, is spread over much of the lowland plains and is subjected to several months of drought (MOE 2010, pp. 21-22) (Table 2) (Fig. 2). Most of the rain in this zone comes from the northeast monsoon and inter-monsoonal rains (MOE 2010, pp. 21-22; Malgrem 2003, p. 1236). Characteristic forest types occur within each of the different climate zones (Table 2).

Table 2—Climate Zones and Elevation of Sri Lanka and Associated Forest Types
[Based on Information in FAO (2015a, pp. 6-7), Nanayakkara (2014a, pp. 22-25), and GOSL (2012, p. 51)]
Zone | Percent of Sri Lanka's land area | Mean annual rainfall (mm) | Elevation (meters) | Forest type
Wet Zone | 23 | 2,500->5,000 | 0-2,500 |
Low |  |  | 0-1,000 | Lowland rainforest.
Mid |  |  | 1,000-1,500 | Submontane forest.
Montane |  |  | 1,500-2,500 | Montane forest.
Intermediate Zone | 12 | 1,900-2,500 | 0-1,000 | Moist monsoon forest.
Dry Zone | 60 | 1,250-1,900 | 0-500 | Dry monsoon forest; riverine forest; open-canopy forest.
Arid Zone | 5 | <1,250 |  | Thorny scrub forest.

Species-Specific Information

Each of the five petitioned species addressed in this finding is endemic to Sri Lanka and has a range restricted to a particular region and one or two of Sri Lanka's climate zones (Nanayakkara 2014a, pp. 84-85) (Fig. 1, Fig. 2). Due to their secretive and nocturnal habits, sensitivity to vibrations, and their occurrence in structurally complex habitat (forest), Poecilotheria species are difficult to detect (Molur et al. 2003, unpaginated). Therefore, it is possible that reported ranges are smaller than the actual ranges of these species. However, distribution surveys for these species were conducted at many locations throughout the country during 2009-2012 by Nanayakkara et al. (2012, entire), and we consider the locations reported in Nanayakkara (2014a, entire) to reflect the best available information concerning the ranges of these species.

Historical ranges for the five petitioned Sri Lankan species are unknown. Further, population information is not available on any of the five petitioned Sri Lankan species; therefore, population trends are unknown. However, experts believe populations are declining, and that these species are very likely to go extinct within the next two or three decades (Nanayakkara and Adikaram 2013, p. 54). We are not aware of any existing conservation programs for these species. All five species are categorized on the National Red List of Sri Lanka as Endangered or Critically Endangered based on their area of occupancy (Critically Endangered: Less than 10 km²; Endangered: Less than 500 km²) and distribution (Critically Endangered: Severely fragmented or known to exist at only a single location; Endangered: Severely fragmented or known to exist at no more than five locations), and the status (continuing decline, observed, inferred or projected, in the area, extent, or quality, or any combination of the three) of their habitat (MOE 2012, p. 55; IUCN 2001, entire).

For locations discussed in species-specific information below, see Fig. 1. For locations of the ranges of the different species, see Fig. 2.

BILLING CODE 4333-15-P

BILLING CODE 4333-15-C

P. fasciata

Poecilotheria fasciata occurs in forests below 200-m elevation in Sri Lanka's dry and intermediate zones north of Colombo and is also sometimes found in coconut plantations in this region (Nanayakkara 2014a, p. 96; Nanayakkara 2014b, unpublished data; Smith et al. 2001, entire). The species has a broad but patchy distribution and is estimated to occupy less than 500 km² (193 mi²) of its range (MOE 2012, p. 55; Smith et al. 2001, p. 48). The area, extent, or quality (or a combination thereof) of P. fasciata's habitat is considered to be in continuing decline, and the species is categorized on the National Red List of Sri Lanka as Endangered (MOE 2012, p. 55).

The only detailed record of the species' occurrence in a coconut plantation is provided by Smith et al. (2001, entire). Poecilotheria fasciata is reported to have colonized the coconut plantation following a prolonged drought. While P. fasciata in dry and intermediate zone forests, including those surrounding the coconut plantation, were found to be emaciated and without spiderlings, those in the irrigated plantation were found to have spiderlings in their retreats and wider abdomens. Smith et al. argue that P. fasciata was able to colonize the plantation due to the occurrence of P. fasciata in the adjacent remnant forest, the presence of coconut trees that were infested with weevils and subsequently fed on by woodpeckers that created holes suitable for P. fasciata retreats, and plantation irrigation that resulted in an abundant prey base for the species. The P. fasciata population in the plantation was apparently established in the 1980s and persisted until at least 2000 (Smith et al. 2001, pp. 49, 52).

During recent surveys, P. fasciata were detected at nine locations—two in coconut plantations and seven in forest locations. Greater than 20 adults and 100 juveniles were found in coconut plantations, and greater than 30 adults and no juveniles were found in forest locations (Nanayakkara 2014b, unpublished data). Although no juveniles were detected in forest habitats during these surveys, recent observations of P. fasciata juveniles in forest habitat have been reported (Nanayakkara 2014a, p. 96; Kumarasinghe et al. 2013, p. 10). Therefore, based on the observations of Smith et al. described above, it is possible that the lack of juveniles detected in forests during recent surveys was due to drought conditions during the survey period. As indicated above, island-wide surveys for Poecilotheria were conducted during 2009-2012, and droughts occurred in 2010 and 2012 in the region in which P. fasciata occurs (Integrated Regional Information Network 2012, unpaginated; Disaster Management Center, Sri Lanka 2010, p. 12). However, while juveniles were detected only in coconut plantations during these surveys, numbers found in coconut and forest habitat cannot be directly compared because surveys were designed for determining distribution rather than species abundance or density. For instance, juveniles may be more difficult to detect in forest habitat than in coconut plantations, or a greater area of coconut plantations may have been searched compared to forest habitat.

P. ornata

Poecilotheria ornata is found in the plains and hills of the lowland wet zone in southwestern Sri Lanka (Nanayakkara 2014a, pp. 112-113; Smith et al. 2002, p. 90). It is one of the few solitary species in the genus (Nanayakkara 2014a, p. 112). In recent surveys, 23 adults and no juveniles were detected at 4 locations (Nanayakkara 2014b, unpublished data). Poecilotheria ornata is estimated to occupy less than 500 km² (193 mi²) of its range (MOE 2012, p. 55), and the area, extent, or quality (or a combination thereof) of the species' habitat is considered to be in continuing decline. Poecilotheria ornata is categorized on the National Red List of Sri Lanka as Endangered (MOE 2012, p. 55).

P. smithi

Poecilotherai smithi is found in the central highlands, in Kandy and Matale districts (Nanayakkara et al. 2013, pp. 73-74). It was originally found in the wet zone at mid elevations (Kirk 1996, p. 23), though it is described as a montane species (Jacobi 2005, entire; Smith et al. 2002, p. 92). Poecilotheria smithi appears to be very rare and is considered highly threatened (Nanayakkara et al. 2013, p. 73; Gabriel et al. 2005, p. 4). The species was described in 1996, and, despite several efforts to locate the species during the past 20 years, few individuals have been found (Nanayakkara et al. 2013, pp. 73-74; Gabriel et al. 2005, pp. 6-7). In 2005, three adult females and four spiderlings were reported in the Haragama, Kandy district, an area described as severely impacted by several anthropogenic factors (Nanayakkara et al. 2013, p. 74; Gabriel et al. 2005, pp. 6-7). During surveys conducted in several areas of the country during 2003-2005, no P. smithi were found (Samarawckrama et al. 2005, entire). Finally, during recent surveys, the species was found at two locations with seven adults and nine juveniles detected (Nanayakkara 2014b, unpublished data). Prior to these recent surveys, the species was known only from the Haragama, Kandy district. However, the species was recently found about 31 km (19.3 mi) away from Haragama, in three trees within a 5-km² (1.9-mi²) area of highly disturbed habitat (Nanayakkara et al. 2013, p. 74).

Poecilotheria smithi was estimated to occupy less than 10 km² (3.9 mi²) of its range (MOE 2012, p. 55) but a recently reported location in Matale district increases the known area of occupancy by 5 km² (1.9 mi²). The area, extent, or quality (or a combination thereof) of the species' habitat is considered to be in continuing decline, and the species is categorized on the National Red List of Sri Lanka as Critically Endangered (MOE 2012, p. 55).

P. subfusca

Poecilotheria subfusca occurs in the wet zone of the central highlands of Sri Lanka, in two disjunct regions: The montane region above 1,500-m elevation in Nuwara Eliya and Badulla districts; and at 500 to 600 m (1,640 to 1,968 ft) elevation in Kegalla, Kandy, and Matale districts (Nanayakkara 2014a, pp. 101-102, 116; Smith et al. 2002, entire). One author (Nanayakkara 2014a, pp. 116-117) identifies individuals in the latter region as P. bara, which was first described as a species in 1917 (Chamberlin 1917, in Kirk 1996, p. 21). However, in the 1990s P. bara was determined to be a junior synonym of P. subfusca (Kirk 1996, p. 21; also see Taxonomy and Species Descriptions). Therefore, all reference in this finding to P. subfusca refers to individuals in both the high-elevation and mid-elevation regions.

During recent surveys, P. subfusca was found at 10 locations, and a total of 25 adult and 56 juvenile P. subfusca were detected (Nanayakkara 2014b, unpublished data). The area of the range occupied by P. subfusca is less than 500 km² (193 mi²) (MOE 2012, p. 55). Further, the area, extent, or quality (or a combination thereof) of P. subfusca's habitat is considered to be in continuing decline throughout its range, and the species is categorized on the National Red List of Sri Lanka as Endangered (MOE 2012, p. 55).

P. vittata

Poecilotheria vittata occurs in the arid, dry, and intermediate zones of Hambantota and Monaragala districts in southeastern Sri Lanka (Kekulandala and Goonatilake 2015, unpaginated; Nanayakkara 2014a, pp. 106-107). The species' preferred habitat is said to be Manilkara hexandra (Palu) trees (Nanayakkara 2014a, p. 106), a dominant canopy tree species in Sri Lanka's dry forest (Gunarathne and Perera 2014, p. 15). In recent surveys, the species was found at 4 locations, and 15 adults and 7 juveniles of P. fasciata were detected (Nanayakkara 2014b, unpublished data). Poecilotheria vittata is estimated to occupy less than 500 km² (193 mi²) of its range (MOE 2012, p. 55), and the area, extent, or quality (or a combination thereof) of the species' habitat is considered to be in continuing decline. Poecilotheria vittata is categorized on the National Red List of Sri Lanka as Endangered (MOE 2012, p. 55).

Summary of Biological Status and Threats

The Act directs us to determine whether any species is an endangered species or a threatened species because of any one or more of five factors or the cumulative effects thereof: (A) The present or threatened destruction, modification, or curtailment of its habitat or range; (B) Overutilization for commercial, recreational, scientific, or educational purposes; (C) Disease or predation; (D) The inadequacy of existing regulatory mechanisms; or (E) Other natural or manmade factors affecting its continued existence. In this section, we summarize the biological condition of the species and its resources, and the influences on such to assess the species' overall viability and the risks to that viability.

Habitat Loss and Degradation

Habitat loss and degradation are considered primary factors negatively affecting Poecilotheria species (Nanayakkara and Adikaram 2013, pp. 53-54; MOE 2012, p. 55; Molur et al. 2008, pp. 1-2). Forest loss and degradation are likely to negatively impact the five petitioned species in several ways. First, forest loss and degradation directly eliminate or reduce the availability of trees required by Poecilotheria species for reproduction, foraging, and protection (Samarawckrama et al. 2005, p. 76; Smith et al. 2002, entire). Second, due to the limited ability of Poecilotheria species to travel far, as well as their sedentary habits, forest loss and degradation are also likely to result in direct mortality of individuals or populations, via physical trauma caused by the activities that result in forest loss and degradation, or the intentional killing of these spiders when they are encountered by humans during these activities (see Intentional Killing). Such mortality not only has the potential to affect these species' abundances and distributions, but also their genetic diversity. Tarantulas have highly structured populations (See Tarantula General Biology), and, consequently, the loss of a local population of a species—due to habitat loss or any other factor— equates to a loss of unique genetic diversity (Bond et al. 2006, p. 154, citing several sources). Finally, the loss of forest also often results in fragmented habitat. Due to their limited dispersal ability, forest fragmentation is likely to isolate Poecilotheria populations, which increases their vulnerability to stochastic processes (see Stochastic Processes), and may also expose wandering males and dispersing juveniles to increased mortality from intentional killing or predation when they attempt to cross between forest fragments (Bond et al. 2006, p. 155) (see Intentional Killing).

Natural Forest

Natural forests covered almost the entire island of Sri Lanka a few centuries ago (Mattsson et al. 2012, p. 31). However, extensive deforestation occurred during the British colonial period (1815-1948) as a result of forest-clearing for establishment of plantation crops such as tea and coffee, and also exploitation for timber, slash-and-burn agriculture (a method of agriculture in which natural vegetation is cut down and burned to clear the land for planting), and land settlement. In 1884, about midway through the British colonial period, closed-canopy (dense) forest covered 84 percent of the country and was reduced to 44 percent by 1956 (GOSL 2012, p. 2a-3-145; Nanayakkara 1996, in Mattson et al. 2012, p. 31). Deforestation continued after independence as the result of timber extraction, slash-and-burn agriculture, human settlements, national development projects, and encroachment (GOSL 2012, pp. 2a-3-144-145; Perera et al. 2012, p. 165). As a result, dense forest cover (canopy density greater than 70 percent) declined by half in about 50 years, to 22 percent in 2010 (GOSL 2012, pp. 51, 2a-3-145; Nanayakkara 1996, in Mattson et al. 2012, p. 31). Open-canopy forest (canopy density less than 70 percent) covered an additional 6.8 percent of the country in 2010 for an overall forest cover of 28.6 percent (GOSL 2012, p. 51).

The extent of past deforestation differed in the three climate zones of the country. The impacts of anthropogenic factors on forests in the wetter regions of the island have been more extensive due to the higher density of the human population in these regions. The human population density in the wet zone is 650 people per km² (1,684 per mi²) compared to 170 people per km² (440 per km²) in the dry zone and 329 per km² (852 per mi²) nationally (GOSL 2012, p. 8). Currently about 13 percent of the wet zone, 15 percent of the intermediate zone, and 29 percent of the dry zone are densely forested (Table 3).

Recent information on forest cover in the different climate zones is provided in GOSL 2015, GOSL 2012, and FAO 2015a, all of which provide information from the Forest Department of Sri Lanka. The GOSL 2015 report provides a map of the change in forest cover between 1992 and 2010 and a qualitative assessment of these changes. The GOSL 2012 and FAO 2015a reports provide quantitative information on the area of forest cover by forest type for 1992, 1999, and 2010 and contain identical data from the Forest Department. The relevant forest cover information in these two reports is provided in Table 4. However, the Forest Department of Sri Lanka used different rainfall criteria to separate dry and intermediate zone forests, and different altitude criteria to separate montane and submontane forests, in different years (see climate zone and forest definitions in FAO 2015a, p. 6; GOSL 2012, p. 51; FAO 2005, p. 7; FAO 2001, pp. 16, 53). Therefore, we combine the information on intermediate and dry zone forests, and the information on montane and submontane forests in Table 4. We discuss the information on forest cover from the various sources by climate zone below.

Wet Zone Forest

Very little wet zone forest remains in Sri Lanka. Currently, the area of montane and submontane forests combined is only about 733 km² (283 mi²) and is severely fragmented (GOSL 2012, pp. 51, 2a-3-142). According to GOSL (2012, p. 51), these forests remained relatively stable from 1992 to 2010 (Table 4). However, satellite imagery shows deforestation occurred in these forests during this period, although at low levels (GOSL 2015, unpaginated). Further, more recent evidence indicates these forests are currently declining. A recent report indicates that activities such as firewood collection, cutting of trees for other domestic purposes, and gem mining are ongoing in these forests, and that large areas were recently illegally cleared for vegetable cultivation (Wijesundara 2012, p. 182). While these forests are protected in Sri Lanka, administering agencies do not appear to have sufficient resources to prevent these activities (Wijesundara 2012, p. 182).

The area of lowland wet zone forests (lowland rainforest) declined from 1992 to 2010 (Table 4). Remaining lowland rainforests are severely fragmented, exist primarily as small, isolated patches, and declined by 182 km² (70 mi²) during the 18-year period, though the rate of loss slowed considerably during the latter half of this period (GOSL 2012, p. 2a-3-142; Lindstrom et al. 2012, p. 681) (Table 4). GOSL (2015, unpaginated) shows low levels of deforestation throughout the lowland rainforest region from 1992 to 2010, and identifies a deforestation “hotspot” on the border of Kalutara and Ratnapura districts, which is within the range of P. ornata (Fig. 1, Fig. 2).

Dry and Intermediate Zone Forests

Dry and intermediate zone forests, which include most open-canopy forest (Mattsson et al. 2012, p. 30), declined by 1,372 km² (530 mi²) between 1992 and 2010 (Table 4). According to GOSL (2015, unpaginated), the rate of deforestation nationwide during this period was highest in Anuradhapura and Moneragala districts, in which large portions of the ranges of P. fasciata and P. vittata occur (see Fig. 1, Fig. 2). GOSL (2015, unpaginated) also report deforestation hotspots in other districts (for instance Puttalam and Hambantota) in which these species occur. Natural regeneration of dry forest species is reported to be very poor, and dry zone forests are heavily degraded as a result of activities such as frequent shifting cultivation and timber logging (Perera 2012, p. 165, citing several sources).

Table 3—The Total Area of Sri Lanka's Climate Zones, and the Coverage of Dense Forest
[(Canopy cover greater than 70 percent) within each zone in 2010, based on information provided in Table 2 and GOSL 2012, p. 51.]
Climate zones of Sri Lanka | Area ¹ (km²) | Area covered with dense forest (canopy cover greater than 70 percent) closed-canopy forest in 2010 (km²) | Proportion (percent) with dense forest ²
Wet Zone | 15,090 | 1,966 | 13
Intermediate Zone | 7,873 | 1,179 | 15
Dry Zone | 39,366 | ³ 11,238 | 29
Arid Zone | 3,281 |  |
¹ Calculated based on proportion of land area in each climate zone as provided in Table 2, and a total land area of 65,610 km².
² Original natural extent of forest cover in each zone is unknown. However, it is likely each zone was close to 100% forested because, as indicated above (see Natural Forest), in 1884, after several decades of deforestation during the British colonial period, dense forest covered 84% of the island.
³ Figure is for dry monsoon forest and riverine forest. It does not include mangrove forests.

Table 4—Area of Sri Lanka Forest Cover in 1992, 1999, and 2010 in km²
[(Based on GOSL 2012, p. 51 and FAO 2015a, pp. 8-9). Forest cover for specific forest types are for dense (canopy density greater than 70 percent) forest. Area of open-canopy forest (canopy density less than 70 percent) is provided separately.]
Forest types (climate zone) | 1992 | 1996 | 2010
Lowland Rainforest (Wet) | 1,416 | 1,243 | 1,233
Submontane and montane Forest (Wet) | 719 | 689 | 733
Moist monsoon + dry monsoon + riverine forest (Dry and Intermediate) | 13,606 | 12,679 | 12,417
Open-canopy forest (Dry) | 4,638 | 4,716 | 4,455

Forest Conservation Measures

Sri Lanka has taken several steps in recent decades to conserve its forests, and these efforts have contributed to the slowing of deforestation in the country (GOSL 2012, pp. 54-55). In 1990 the country imposed a moratorium, which is still in effect, on logging in all natural forests, has marked most forest and wildlife reserve boundaries to stem encroachments, and prepared and implemented management plans for forest and wildlife reserves, which became legal requirements under the Forest Ordinance Amendment Act No. 65 of 2009 and the Fauna and Flora Ordinance Amendment Act No. 22 of 2009 (GOSL 2014, p. 26). The government also encourages community participation in forest and protected area management, has implemented programs to engage residents in community forestry to reduce encroachment of cash crops and tea in the wet zone and slash-and-burn agriculture in the dry zone, and encourages use of non-forest lands and private woodlots for meeting the demands for wood and wood products (GOSL 2014, p. 26). In addition to these efforts, between 12 percent (GOSL 2015, unpaginated) and 28 percent (GOSL 2014, pp. xvi, 23) of the country's land area is reported to be under protected area status.

Although considerable efforts have been undertaken in Sri Lanka in recent years to stop deforestation and forest degradation, these processes are ongoing (see Current and Future Forest Trends). The assessment of the status of natural forests during the Species Red List assessments in 2012 indicate that, despite advances in forest conservation in the country, many existing threats continue to impact forest habitats (GOSL 2014, p. 26). While laws and regulations are in place to address deforestation, issues exist regarding their implementation (GOSL 2012, pp. 55, 2a-3-148-150). For instance, lack of financial assistance for protected area management, increasing demand for land, and regularization of land encroachments, result in further loss of the forest habitat of the five species addressed in this finding (GOSL 2014, p. 22; GOSL 2011, unpaginated). Also, there is poor coordination between government agencies with respect to forest conservation—conservation agencies are not always adequately consulted on initiatives to develop forested land (GOSL 2014, p. 22; MOE 2010, p. 31). In addition, many protected areas within the wet zone are small, degraded, and isolated (GOSL 2014, p. 31).

Current and Future Forest Trends

The current drivers of deforestation and forest degradation in Sri Lanka include a variety of factors such as small-scale encroachments, illicit timber harvesting, forest fires, destructive mining practices, and clearing of forest for developments, settlements, and agriculture (GOSL 2012, p. 12). These are exacerbated by a large, dense human population that is projected to increase from 20.7 million in 2015 to 21.5 million in 2030 (United Nations 2015, p. 22). While the majority of forested areas are protected areas, further population growth is likely to result in reduction of forested areas because (1) Sri Lanka already has a very high human density (329 people per km² (852 per mi²)), (2) increases in the population will elevate an already high demand for land, and (3) little non-forested land is available for expansion of housing, development, cash crops, or subsistence agriculture (GOSL 2012, pp. 8, 14, 58). Most (72%) of the population of Sri Lanka is rural, dependence on agriculture for subsistence is widespread, and the rate of population growth is higher in rural areas resulting in an increasing demand for land for subsistence (Lindstrom et al. 2012, p. 680; GOSL 2011, unpaginated).

The current drivers of deforestation and forest degradation are also exacerbated by high economic returns from illicit land conversions, lack of alternative livelihood opportunities for those practicing slash-and-burn agriculture, and, in the dry zone, weak implementation of land-use policy, and poverty (GOSL 2012, pp. 14-15). Further, for the 30 years prior to 2009, Sri Lanka was engaged in a civil war and, although the war took place primarily in the dry zone of the northern and eastern regions of the country, limited deforestation rates during the past few decades are attributed not only to the inaccessibility of many areas of the dry zone during the war, but also to the slow pace of development in the country as a whole during this period (GOSL 2012, pp. 48, 56-57).

Overall, deforestation and forest degradation in Sri Lanka are ongoing, although recent rates of deforestation are much lower than during the mid- to late- 20th century—the rate of deforestation during 1992-2010 was 71 km² (27.4 mi²) per year, compared to 400 km² (154 mi²) per year during 1956-1992 (GOSL 2015, unpaginated). However, since the end of Sri Lanka's civil war in 2009, the government has been implementing an extensive 10-year development plan with the goal of transforming the country into a global economic and industrial hub (Buthpitiya 2013, p. ii; Central Bank of Sri Lanka 2012, p. 67; Ministry of Finance and Planning—Sri Lanka (MOFP) 2010, entire). The plan includes large infrastructure projects throughout the country (MOFP 2010, entire). Projects include, among other things, development of seaports, airports, expressways, railways, industrial parks, power plants, and water management systems that will allow for planned expansion of agriculture, and many of these projects have already started (Buthpitiya 2013, pp. 5-6; Central Bank of Sri Lanka 2012, p. 67; MOFP 2010, entire). They also include projects located within the ranges of all five species addressed in this finding, although the plan does not provide the amount of area that will be impacted by these projects (Fig. 2 and MOFP 2010, pp. 63, 93, 101, 202-298). The rate of loss of natural forest (primary forest and other naturally regenerated forest) increased from 60 km² (23 mi²) per year during 2000-2010 to 86 km² (33 mi²) per year during 2010-2015 (FAO 2015b, pp. 44, 50). As post-war reconstruction and development continues in Sri Lanka, deforestation and forest degradation can be expected to rise (GOSL 2012, p. 2a-3-146).

Coconut Plantations

Coconut is grown throughout Sri Lanka. Most (57 percent) of the area under coconut cultivation is in the intermediate and wet zones north of Colombo (MOE 2011, p. 14), which overlaps with the southern portion of the range of P. fasciata. As indicated above, P. fasciata are sometimes found in coconut plantations in Sri Lanka, although the extent to which coconut plantations contribute to sustaining viable populations of these species is unknown. This is particularly the case because (1) tarantulas are poor dispersers (see Tarantula General Biology), (2) colonization of coconut plantations by the species appears to depend on the occurrence of occupied natural forest in relatively close proximity to coconut plantations (Smith et al. 2001, entire), and (3) very little natural forest remains in the coconut growing region in which P. fasciata occurs (Fig. 2 and GOSL 2015, unpaginated; MOE 2014, p. 94).

The aerial extent of coconut cultivation in Sri Lanka has varied between about 3,630 and 4,200 km² (1,402 and 1,622 mi²) since 2005 (Central Bank of Sri Lanka 2014, Statistical Appendix, Table 13), with no clear directional trend. However, due to the rising human population and resulting escalating demand for land in Sri Lanka, plantations have become increasingly fragmented due to conversion of these lands to housing (GOSL 2014, pp. 26-27). As indicated above, due to their limited dispersal ability, forest fragmentation is likely to isolate Poecilotheria populations, which increases their vulnerability to stochastic processes (see Stochastic Processes), and may also expose wandering males and dispersing juveniles to increased mortality from intentional killing or predation when they attempt to cross between forest fragments (Bond et al. 2006, p. 155) (see Intentional Killing). Thus, even though P. fasciata uses coconut plantations to some extent, fragmentation of this habitat is likely to isolate populations and increase their vulnerability to stochastic processes, intentional killing, and predation.

Summary

Sri Lanka has lost most of its forest cover due to a variety of factors over the past several decades. Very little (1,966 km² (759 mi²)) wet zone forest—in which the ranges of P. ornata, P. smithi, and P. subfusca occur—remains in the country, the remainder is highly fragmented, and continues to be lost. Only about 35 percent (16,872 km² (6,514 mi²)) of dense and open canopy dry and intermediate zone forests—in which the ranges of P. fasciata and P. vittata occur—remain, deforestation in these forests is ongoing, and recent rates of deforestation in the country have been highest in regions constituting large portions of the ranges of these two species. Forest cover continues to decline at a rate of 86 km² (33 mi²) per year and the rate of loss is higher in the dry zone than the wet zone. While the current rate of forest loss is much lower than in the previous century, the rate of loss of natural forest is increasing and is anticipated to increase in the future with the country's emphasis on development and the projected population increase of 800,000 people. While coconut plantations provide additional habitat for one species (P. fasciata) in some areas, they are becoming increasingly fragmented due to demand for housing.

Tarantulas have sedentary habits, limited dispersal ability, and highly structured populations. Therefore, loss of habitat has likely resulted in direct loss of individuals or populations and, consequently, a reduction in the distribution and genetic diversity of these species. The distribution of these species is already limited—each currently occupies less than 500 km² (193 mi²) or, for P. smithi, less than 10 to 15 km² (3.9 to 5.8 mi²) of its range—and deforestation continues within the ranges of all five species discussed in this finding. Further, the limited distribution of these species is likely continuing to decline with ongoing loss of habitat. While the specific amount of habitat area required to maintain the long term viability of each of these species is unknown, given that (1) these species' have very small distributions, (2) there is little forest remaining in Sri Lanka, (3) remaining habitat is fragmented, and (4) deforestation is ongoing within these species' ranges, we conclude that habitat loss is likely currently having significant negative impacts on the viability of these species.

Pesticides

Pesticides are identified as a threat to Poecilotheria species in Sri Lanka (Nanayakkara 2014b, unpublished data; Gabriel 2014, unpaginated). The five species addressed in this finding could potentially be exposed to pesticides via pesticide drift into forests that are adjacent to crop-growing areas; by traveling over pesticide treated land when dispersing between forest patches; or by consuming prey that have been exposed to pesticides. Populations of these species could potentially be directly affected by pesticides through increased mortality or through sub-lethal effects such as reduced fecundity, fertility, and offspring viability, and changes in sex ratio, behavior, and dispersal (Nash et al. 2010, p. 1694, citing several sources). Poecilotheria species may also be indirectly affected by pesticides if pesticides result in a reduction or depletion of available prey.

There are over 100 pesticide (herbicide, fungicide, and insecticide) active ingredients registered for use in Sri Lanka. Among the most commonly used insecticides are carbofuran, diazinon, and chloropyrifos (Padmajani et al. 2014, pp. 11-12). These are broad spectrum, neurotoxic insecticides, which tend to have very negative effects on non-target organisms (Pekar 2013, p. 415). Further, sit-and-wait predators appear to be more sensitive to insecticide applications than web-making spiders (Pekar 1999, pp. 1077).

The use of pesticides in Sri Lanka has been increasing steadily since the 1950s (Selvarajah and Thiruchelvam 2007, p. 381). Pesticide imports into Sri Lanka increased by 50 percent in 2011 compared to 2006 (Padmajani et al. 2014, p. 11). The level of misuse and overuse of pesticides in Sri Lanka is high. Depending on region and crop species, 33 to 60 percent of Sri Lankan farmers use greater amounts, higher concentrations, or more frequent applications of pesticides (or a combination of these) than is recommended (Padmajani et al. 2014, pp. 13, 31, citing several sources).

The susceptibility of spiders to the direct effects of different pesticides varies with pesticide type and formulation, spider species, development stage, sex, and abiotic and biotic conditions at the time of pesticide application (Pekar 2013, pp. 416-417). Further, different classes of pesticides can cause different sub-lethal effects. For instance, activities such as movement, prey capture, reproduction, development, and defense are particularly disrupted by neurotoxic formulations because they are governed by complex neural interactions. However, spiders can potentially recover from sub-lethal effects over several days (Pekar 2013, p. 417), although the effects are complicated by the potential for cumulative effects of multiple applications across a season (Nash et al. 2010, p. 1694).

We are not aware of any information on the population level effects of pesticides on Poecilotheria species. However, given the large proportion of Sri Lanka's human population that is reliant on farming, the high level of misuse and overuse of pesticides in the country, and the broad-spectrum and high level of toxicity of the insecticides commonly used in the country, it is likely that the species addressed in this finding are directly or indirectly negatively affected by pesticides to some extent. Therefore, while the population level effects of pesticides on the five species addressed in this finding are uncertain, the effects of pesticides likely exacerbate the effects of other threats acting on these species.

Climate Change

The Intergovernmental Panel on Climate Change (IPCC) concluded that warming of the climate system is unequivocal (IPCC 2013, p. 4). Numerous long-term climate changes have been observed including changes in land surface temperatures, precipitation patterns, ocean temperature and salinity, sea ice extent, and sea level (IPCC 2013, pp. 4-12). Various types of changes in climate can have direct or indirect effects on species. These effects may be positive, neutral, or negative and they may change over time, depending on the species and other relevant considerations, such as the effects of interactions of climate with other variables (e.g., habitat fragmentation) (IPCC 2007, pp. 8-14, 18-19). However, a large fraction of terrestrial and freshwater species face increased extinction risk under projected climate change during and beyond the current century, especially as climate change interacts with habitat modification and other factors such as overexploitation, pollution, and invasive species (Settele et al. 2014, p. 275).

Maintenance of body temperature and water relations by spiders is critical to their survival. All spiders, including Poecilotheria, are ectotherms and, therefore, their body temperature varies with that of their environment. While spiders keep body temperature within tolerable limits through behaviors such as moving into shade when temperatures rise (Pulz 1987, pp. 27, 34-35), they are susceptible to rapid fluctuations in body temperature and severe depletion of body water stores due to their relatively low body mass and high surface to volume ratio (Pulz 1987, p. 27).

Tropical ectotherms evolved in an environment of relatively low inter- and intra-annual climate variability, and already live near their upper thermal limits (Settele et al. 2014, p. 301; Deutsch et al. 2008, p. 6669). Their capacity to acclimate is generally low. They have small thermal safety margins, and small amounts of warming may decrease their ability to perform basic physiological functions such as development, growth, and reproduction (Deutsch et al. 2008, pp. 6668-6669, 6671). Evidence also indicates they may have low potential to increase their resistance to desiccation (Schilthuizen and Kellerman 2014, p. 61, citing several sources).

While observed and projected changes in temperature and precipitation could potentially be within the tolerance limits of the Poecilotheria species addressed in this finding, it is possible that climate change could directly negatively affect these species through rising land surface temperatures, changes in the amount and pattern of precipitation, and increases in the frequency and intensity of extreme climate events such as heat waves or droughts. It is also possible that climate change could indirectly negatively affect these species, by negatively impacting populations of their insect prey species, which are also tropical ectotherms. In the only detailed observations of a Sri Lankan Poecilotheria species, Smith et al. (2001, entire) indicate that P. fasciata found in natural forest were emaciated and without spiderlings during an extended drought, while those found in an irrigated plantation had wider girths and spiderlings (see Species -Specific Information). These observations indicate that the lack of reproduction in natural forest during the drought may have been due either to desiccation stress or lack of available prey, or both, as a result of low moisture levels.

The general trend in temperature in Sri Lanka over the past several decades is that of increasing temperature, though with considerable variation between locations in rates and magnitudes of change (De Costa 2008, p. 87; De Silva et al. 2007, p. 21, citing several sources). Over the six to ten decades prior to 2007, temperatures have increased within all climate zones of the country, although rates of increase vary from 0.065 °C (0.117 °F) per decade in Ratnapura (an increase of 0.65 °C (1.17 °F) during the 97-year period analyzed) in the lowland wet zone, to 0.195 °C (0.351 °F) per decade in Anuradhapura (an increase of 1.50 °C (2.70 °F) during the 77-year period analyzed) in the dry zone. In the montane region, temperatures increased at a rate of 0.141 °C (0.254 °F) per decade at Nuwara Eliya to 0.191 °C (0.344 °F) per decade at Badulla (increases of 1.09 and 1.47 °C (1.96 and 2.65 °F) during the 77-year period analyzed, respectively) (De Costa 2008, p. 68). The rate of warming has increased in more recent years—overall temperature in the country increased at a rate of 0.003 °C (0.005 °F) per year during 1896-1996, 0.016 °C (0.029 °F) per year during 1961-1990, and 0.025 °C (0.045 °F) per year during 1987-1996 (Eriyagama et al. 2010, p. 2, citing several sources). Depending on future climate scenarios, temperatures are projected to increase by 2.93 to 5.44 °C (5.27 to 9.49 °F) by the end of the current century in South Asia (Cruz et al. 2007, in Eriyagama et al. 2010, p. 6). Downscaled projections for Sri Lanka using regional climate models report increases of 2.0 to 4.0 °C (3.6 to 7.2 °F) by 2100, while statistical downscaling of global climate models report increases of 0.9 to 3 °C (1.62 to 5.4 °F) by 2100 and 1.2 to 1.3 °C (2.16 to 2.34 °F) by 2050 (Eriyagama et al. 2010, p. 6, citing several sources).

Studies show a decreasing trend in rainfall in Sri Lanka over the past several decades (see De Costa 2008, p. 87; De Silva et al. 2007, p. 21, citing several sources) although, according to the Climate Change Secretariat of Sri Lanka (2015, p. 19) there is no consensus on this fact. However, authors appear to agree that the intensity and frequency of extreme events such as droughts and floods have increased (Imbulana et al 2016 and Ratnayake and Herath 2005, in Climate Change Secretariate of Sri Lanka 2015, p. 19).

Rainfall in Sri Lanka is highly variable from year to year, across seasons and across locations within any given year (Jayatillake et al. 2005, p. 70). Statistically significant declines in rainfall have been observed for the period 1869-2007 at Anuradhapura in the northern dry zone (12.92 mm (5.08 in) per decade), and Badulla, Kandy, and Nuwara Eliya (19.16, 30.50, and 51.60 mm (0.75, 1.20, and 2.03 in) per decade, respectively) in the central highlands (De Costa 2008, p. 77). Significant declines have also been observed in more recent decades at Kurunegala in western Sri Lanka's intermediate zone (120.57 mm (4.75 in) per decade during 1970-2007) and Ratnapura (41.02 mm (1.61 in) per decade during 1920-2007) (De Costa 2008, p. 77). Further, a significant trend of decreasing rainfall with increasing temperature exists at Anuradhapura, Kurunegala, and Nuwara Eliya (De Costa 2008, pp. 79-81). Patterns of future rainfall in the country are highly uncertain—studies provide variable and conflicting projections (Eriyagama et al. p. 6, citing several sources). However, an increased frequency of dry periods and droughts are expected (MOE 2010, p. 35).

While at least one of the species addressed in this finding appears to be vulnerable to drought, the responses of the five petitioned Poecilotheria species to observed and projected climate change in Sri Lanka are largely unknown. However, the climate in Sri Lanka has already changed considerably in all climate zones of the country, and continues to change at an increasing rate. These species evolved in specific, relatively stable climates and, because they are tropical ectotherms, may be sensitive to changing environmental conditions, particularly temperature and moisture (Deutsch et al. 2008, pp. 6668-6669; Schilthuizen and Kellerman 2014, pp. 59-61, citing several sources). Moreover, because they have poor dispersal ability, Peocilotheria are unlikely to be able to escape changing climate conditions via range shifts. Therefore, while population level responses of the five species addressed in this finding to observed and projected changes in climate are not certain, the stress imposed on these species by increasing temperatures and changing patterns of precipitation is likely exacerbating the effects of other factors acting on these species such as habitat loss and degradation, and stochastic processes. This is especially the case for P. fasciata because (1) the frequency and intensity of droughts has increased and are expected to continue increasing, (2) based on the best available information, the species fails to reproduce in natural forest during extended droughts, and (3) most populations have been found in natural forest.

Trade

Poecilotheria species are popular in trade due to their striking coloration and large size (Nanayakkara 2014a, p. 86; Molur et al. 2006, p. 23). In 2000, concerned about increasing trade in these species, Sri Lanka and the United States co-sponsored a proposal to include the genus in Appendix II of the Convention on International Trade in Endangered Species of Wild Fauna and Flora (CITES) (Government of Sri Lanka and Government of the United States 2000, entire). However, at the 11th Conference of the Parties, the proposal was criticized as containing too little information on international trade and species' distribution limits. It was further noted that the genus was primarily threatened by habitat destruction, and was not protected by domestic legislation in India. No consensus was reached on the proposal—there were 49 votes in favor, 30 against, and 27 abstentions—and the proposal was therefore rejected (Convention on International Trade in Endangered Species 2000, p. 50).

Collection of Poecilotheria specimens from the wild could potentially have significant negative impacts on Poecilotheria populations. Due to the patchy distributions and poor dispersal abilities of tarantulas, collection of several individuals from a single location could potentially reduce the abundance or distribution of a species, especially those with restricted distributions (Molur et al. 2006, p. 14; West et al. 2001, unpaginated). Further, because tarantula populations are highly structured, loss of individuals from a single location could result in significant loss of that species' genetic diversity (Bond 2006, p. 154). Collection of a relatively large number of individuals from a single population could also alter population demographics such that the survival of a species or population is more vulnerable to the effects of other factors, such as habitat loss.

Collection of species from the wild for trade often begins when a new species is described or when a rare species has been rediscovered. Alerted to a new or novel species, collectors arrive at the reported location and set out collecting the species from the wild (Molur et al. 2006, p. 15; Stuart et al. 2006, entire). For tarantulas, adult females may be especially vulnerable to collection pressures as collectors often attempt to capture females, which produce young that can be sold (Capannini 2003, p. 107). Collectors then sell the collected specimens or their offspring to hobbyists who captive-rear the species and provide the pet trade with captive-bred specimens (Gabriel 2014, unpaginated; Molur et al. 2006, p. 16). Thus, more individuals are likely to be captured from the wild during the period in which captive-breeding stocks are being established, in other words, prior to the species becoming broadly available in trade (Gabriel 2014, unpaginated).

All five of the petitioned endemic Sri Lankan species are bred by hobbyists and vendors and are available in the pet trade as captive-bred individuals in the United States, Europe, and elsewhere (see Herndon 2014, pers. comm.; Elowsky 2014, unpaginated; Gabriel 2014, unpaginated; Longhorn 2014a, unpaginated; Longhorn 2014b; Mugleston 2014, unpaginated; U.S. Fish and Wildlife Service Division of Management Authority 2012, in litt.). Captive-bred individuals appear to supply the majority of the current legal trade in these species, at least in the United States. The Service's Law Enforcement Management Information System contains information on U.S. international trade in three of these species—P. fasciata, P. ornata, and P. vittata (it does not currently collect information on P. smithi or P. subfusca). Of the 400 individuals of these species that were legally imported into, or exported or re-exported from, the United States during 2007-2012, 392 (98 percent) were declared as captive-bred (U.S. Fish and Wildlife Service Division of Management Authority 2012, in litt.). However, wild individuals of at least some of the petitioned species are still being collected (Nanayakkara 2014a, p. 86; Nanayakkara 2014b, unpublished data; U.S. Fish and Wildlife Service Division of Management Authority 2012, in litt.). Nanayakkara (2014, p. 85) and Samarawckrama et al. (2005, p. 76) indicate that there is evidence of illegal smuggling from Sri Lanka, although they do not provide details. Further, of the 400 individuals of Sri Lankan Poecilotheria imported into, or exported or re-exported from, the United States during 2007-2012, 8 P. vittata were declared as wild-caught. It is possible that additional wild-caught individuals of the Sri Lankan petitioned species were (or are) not included in this total because they are imported into the United States illegally, or imported into other countries. However, we are not aware of any information indicating whether, or to what extent, that activity occurs.

Sri Lanka prohibits the commercial collection and exportation of all Poecilotheria species, under the Sri Lanka Flora and Fauna Protection (Amendment) Act, No. 22 of 2009, which is part of the Fauna and Flora Protection Ordinance No. 2 (1937) (DLA Piper 2015, p. 392; Government of Sri Lanka and Government of the United States 2000, p. 5). However, enforcement is weak and influenced by corruption (DLA Piper 2015, p. 392; GOSL 2012, p. 2a-3-149)

In sum, individuals of at least some of these species are currently being collected from the wild. However, the extent to which this activity is occurring is unknown, as is the extent to which these species have been, or are being, affected by collection. Based on the available information on U.S. imports, a small amount of trade occurs in wild specimens of these species. However, it is likely that more wild specimens enter Europe or Asia than the United States due to the closer proximity of Sri Lanka to Europe and Asia and consequent increased ease of travel and transport of specimens. Further, even small amounts of collection of species with small populations can have a negative impact on the species. Given that evidence indicates that low levels of collection of at least some of these species from the wild continues to occur, it is likely that collection for trade is exacerbating population effects of other factors negatively impacting these species, such as habitat loss and degradation, and stochastic processes.

Intentional Killing

Poecilotheria spiders are feared by humans in Sri Lanka and, as a result, are usually killed when encountered (Kekulandala and Goonatilake 2015, unpaginated; Nanayakkara 2014a, p. 86; Gabriel 2014, unpaginated; Smith et al. 2001, p. 49). Intentional killing of Poecilotheria spiders may negatively impact the five petitioned species by raising mortality rates in these species' populations to such an extent that populations decline or are more vulnerable to the effects of other factors, such as habitat loss. Adult male Poecilotheria are probably more vulnerable to being intentionally killed because they wander in search of females during the breeding season (see Tarantula General Biology) and thus are more likely to be encountered by people. Consequently, intentional killing could potentially reduce the density of males in an area. Because the mating of a female depends on a male finding her, and males search for females randomly, a reduction in the density of males could result in a reduction in the percent of females laying eggs in any given year (Stradling 1994, p. 96) and, consequently, a lower population growth rate.

We are not aware of any information on the number of individuals of the petitioned species that are intentionally killed by people. However, in areas where these species occur, higher human densities are likely to result in higher human contact with these species and, consequently, higher numbers of spiders killed. The human population density in Sri Lanka is much higher in the wet zone (see Habitat Loss and Degradation). Therefore, it is likely that P. ornata, P. smithi, and P. subfusca are affected by intentional killing more than P. fasciata and P. vittata. Although we are not aware of any information indicating the numbers of individuals of these species that are intentionally killed each year, it is likely that such killing is exacerbating the negative effects of other factors, such as habitat loss and degradation, on these species' populations.

Stochastic (Random) Events and Processes

Species endemic to small regions, or known from few, widely dispersed locations, are inherently more vulnerable to extinction than widespread species because of the higher risks from localized stochastic (random) events and processes, such as floods, fire, landslides, and drought (Brooks et al. 2008, pp. 455-456; Mangel and Tier 1994, entire; Pimm et al. 1988, p. 757). These problems can be further magnified when populations are very small, due to genetic bottlenecks (reduced genetic diversity resulting from fewer individuals contributing to the species' overall gene pool) and random demographic fluctuations (Lande 1988, p. 1455-1458; Pimm et al. 1988, p. 757). Species with few populations, limited geographic area, and a small number of individuals face an increased likelihood of stochastic extinction due to changes in demography, the environment, genetics, or other factors, in a process described as an extinction vortex (a mutual reinforcement that occurs among biotic and abiotic processes that drives population size downward to extinction) (Gilpin and Soule´ 1986, pp. 24-25). The negative impacts associated with small population size and vulnerability to random demographic fluctuations or natural catastrophes can be further magnified by synergistic interactions with other threats.

P. smithi is known from very few widely dispersed locations and is likely very rare (see Species—Specific Information). Therefore, it is highly likely that P. smithi is extremely vulnerable to stochastic processes and that the species is highly likely negatively impacted by these processes. The remaining four petitioned Sri Lankan species have narrow ranges within specific climate zones of Sri Lanka. It is unclear whether the range sizes of these four are so small that stochastic processes on their own are likely to have significant negative impacts on these species. However, stochastic processes may have negative impacts on these species in combination with other factors such as habitat loss, because habitat loss can further fragment and isolate populations.

Determinations

Section 4 of the Act (16 U.S.C. 1533), and its implementing regulations at 50 CFR part 424, set forth the procedures for adding species to the Federal Lists of Endangered and Threatened Wildlife and Plants. Under section 4(a)(1) of the Act, we may list a species based on (A) The present or threatened destruction, modification, or curtailment of its habitat or range; (B) Overutilization for commercial, recreational, scientific, or educational purposes; (C) Disease or predation; (D) The inadequacy of existing regulatory mechanisms; or (E) Other natural or manmade factors affecting its continued existence. Listing actions may be warranted based on any of the above threat factors, singly or in combination.

We have carefully assessed the best scientific and commercial information available on P. fasciata, P. ornata, P. subfusca, P. smithi, and P. vittata. While population information is not available on these species, the best available information indicates these species' populations have experienced extensive declines in the past and their populations continue to decline. Tarantulas have limited dispersal ability and sedentary habits, and, therefore, the loss of habitat (Factor A) likely results in direct loss of individuals or populations and, consequently, a reduction in the distribution of the species. As a result, it is highly likely that the extensive loss of forest (71 percent in the dry zone, 85 percent in the intermediate zone, and 87 percent in the wet zone) over historical levels resulted in extensive reductions in these species' populations, and that their populations continue to decline with ongoing deforestation. Further, because these species likely have highly structured populations, reductions in these species' populations have likely resulted in coincident loss of these species' unique genetic diversities, eroding the adaptive and evolutionary potential of these species (Bond 2006, p. 154).

All five of the petitioned Sri Lankan species have restricted ranges within specific regions and climates of Sri Lanka and are currently estimated to occupy areas of less than 500 km² (193 mi²), and less than 10-15 km² (4-6 mi²) for P. smithi. Due to the life-history traits of tarantulas—restricted range, sedentary habits, poor dispersal ability, and structured populations—these species are vulnerable to habitat loss. Extensive habitat loss (Factor A) has already occurred in all the climate zones in which these species occur, and deforestation is ongoing in the country. Further, the cumulative effects of changing climate, intentional killing, pesticides, capture for the pet trade, and stochastic processes are likely significantly exacerbating the effects of habitat loss.

Therefore, for the following reasons we conclude that these species' resiliency, redundancy, and representation have been and continue to be significantly reduced to the extent that the viability of each of these five species is significantly compromised:

(1) These species are closely tied to their habitats, little of their forest habitat remains, deforestation is ongoing in these habitats, and these species are vulnerable to habitat loss;

(2) these species' have poor dispersal ability, are unlikely to be able to escape changing climate conditions via range shifts, and Sri Lanka's climate is changing at increasing rates;

(3) the cumulative effects of climate change, intentional killing, pesticides, capture for the pet trade, and stochastic processes are likely significantly exacerbating the effects of habitat loss; and

(4) P. smithi is known from few locations, is likely rare, and very likely vulnerable to stochastic processes.

The Act defines an endangered species in section 3(6) of the Act as any species that is “in danger of extinction throughout all or a significant portion of its range” and a threatened species in section 3(20) of the Act as any species that is “likely to become an endangered species within the foreseeable future throughout all or a significant portion of its range.” We find that P. fasciata, P. ornata, P. smithi, P. subfusca, and P. vittata are presently in danger of extinction throughout their ranges based on the likely severity and immediacy of threats currently impacting these species. The populations and distributions of these species have likely been significantly reduced; the remaining habitat and populations are threatened by a variety of factors acting alone and in combination to reduce the overall viability of the species.

Based on the factors described above and their impacts on P. fasciata, P. ornata, P. smithi, P. subfusca, and P. vittata, we find the following factors to be threats to these species (i.e., factors contributing to the risk of extinction of this species): Loss of habitat (Factor A; all five species), stochastic processes (Factor E; P. smithi), and the cumulative effects (Factor E; all five species) of these and other threats including climate change, intentional killing, pesticide use, and capture for the pet trade. Furthermore, despite laws in place to protect these five species and the forest and other habitat they depend on, these threats continue (Factor D). We consider the risk of extinction of these five species to be high because these species are vulnerable to habitat loss, this process is ongoing, and these species have limited potential to recolonize reforested areas or move to more favorable climate. Therefore, on the basis of the best available scientific and commercial information, we propose listing P. fasciata, P. ornata, P. smithi, P. subfusca, and P. vittata as endangered in accordance with sections 3(6) and 4(a)(1) of the Act. We find that a threatened species status is not appropriate for these species because of their restricted ranges, limited distributions, and vulnerability to extinction; and because the threats are ongoing throughout their ranges at a level which places these species in danger of extinction now.

Under the Act and our implementing regulations, a species may warrant listing if it is endangered or threatened throughout all or a significant portion of its range. Because we have determined that P. fasciata, P. ornata, P. smithi, P. subfusca, and P. vittata are endangered throughout all of their ranges, no portion of its range can be “significant” for purposes of the definitions of “endangered species” and “threatened species.” See the Final Policy on Interpretation of the Phrase “Significant Portion of Its Range” in the Endangered Species Act's Definitions of “Endangered Species” and “Threatened Species” (79 FR 37577, July 1, 2014).

Available Conservation Measures

Conservation measures provided to species listed as endangered or threatened under the Act include recognition of conservation status, requirements for Federal protection, and prohibitions against certain practices. Recognition through listing encourages and results in public awareness and conservation actions by Federal and State governments in the United States, foreign governments, private agencies and groups, and individuals.

Section 7(a) of the Act, as amended, and as implemented by regulations at 50 CFR part 402, requires Federal agencies to evaluate their actions that are to be conducted within the United States or upon the high seas, with respect to any species that is proposed to be listed or is listed as endangered or threatened. Because P. fasciata, P. ornata, P. smithi, P. subfusca, and P. vittata are not native to the United States, no critical habitat is being proposed for designation with this rule. Regulations implementing the interagency cooperation provision of the Act are codified at 50 CFR part 402. Section 7(a)(2) of the Act requires Federal agencies to ensure that activities they authorize, fund, or carry out are not likely to jeopardize the continued existence of a listed species or to destroy or adversely modify its critical habitat. If a proposed Federal action may adversely affect a listed species, the responsible Federal agency must enter into formal consultation with the Service. Currently, with respect to P. fasciata, P. ornata, P. smithi, P. subfusca, and P. vittata, no Federal activities are known that would require consultation.

Section 8(a) of the Act authorizes the provision of limited financial assistance for the development and management of programs that the Secretary of the Interior determines to be necessary or useful for the conservation of endangered or threatened species in foreign countries. Sections 8(b) and 8(c) of the Act authorize the Secretary to encourage conservation programs for foreign listed species, and to provide assistance for such programs, in the form of personnel and the training of personnel.

Section 9 of the Act and our implementing regulations at 50 CFR 17.21 set forth a series of general prohibitions that apply to all endangered wildlife. These prohibitions, in part, make it illegal for any person subject to the jurisdiction of the United States to “take” (which includes harass, harm, pursue, hunt, shoot, wound, kill, trap, capture, or collect; or to attempt any of these) endangered wildlife within the United States or upon the high seas. It is also illegal to possess, sell, deliver, carry, transport, or ship any such wildlife that has been taken illegally. In addition, it is illegal for any person subject to the jurisdiction of the United States to import; export; deliver, receive, carry, transport, or ship in interstate or foreign commerce, by any means whatsoever and in the course of commercial activity; or sell or offer for sale in interstate or foreign commerce any listed species. Certain exceptions apply to employees of the Service, the National Marine Fisheries Service, other Federal land management agencies, and State conservation agencies.

We may issue permits to carry out otherwise prohibited activities involving endangered wildlife under certain circumstances. Regulations governing permits for endangered species are codified at 50 CFR 17.22. With regard to endangered wildlife, a permit may be issued for the following purposes: for scientific purposes, to enhance the propagation or survival of the species, and for incidental take in connection with otherwise lawful activities. There are also certain statutory exemptions from the prohibitions, which are found in sections 9 and 10 of the Act.

Required Determinations

Clarity of the Rule

We are required by Executive Orders 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

National Environmental Policy Act (42 U.S.C. 4321 et seq.)

We have determined that environmental assessments and environmental impact statements, as defined under the authority of the National Environmental Policy Act (NEPA; 42 U.S.C. 4321 et seq.), need not be prepared in connection with listing a species as an endangered or threatened species under the Endangered Species Act. We published a notice outlining our reasons for this determination in the Federal Register on October 25, 1983 (48 FR 49244).

References Cited

A complete list of references cited in this rulemaking is available on the Internet at http://www.regulations.gov and upon request from the Branch of Foreign Species, Ecological Services (see FOR FURTHER INFORMATION CONTACT).

Authors

The primary authors of this proposed rule are the staff members of the Branch of Foreign Species, Ecological Services, Falls Church, VA.

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245; unless otherwise noted.

2. In § 17.11(h), add the following five entries to the List of Endangered and Threatened Wildlife in alphabetical order under Arachnids to read as set forth below:

§ 17.11 Endangered and threatened wildlife.

* * * * *

(h) * * *

Common name | Scientific name | Where listed | Status | Listing citations and applicable rules
* * * * * * *
Arachnids
* * * * * * *
Spider, ivory ornamental tiger | Poecilotheria subfusca | Wherever found | E | [Insert Federal Register citation when published as a final rule]
* * * * * * *
Spider, ornate tiger | Poecilotheria ornata | Wherever found | E | [Insert Federal Register citation when published as a final rule]
Spider, Pedersen's tiger | Poecilotheria vittata | Wherever found | E | [Insert Federal Register citation when published as a final rule]
Spider, Smith's tiger | Poecilotheria smithi | Wherever found | E | [Insert Federal Register citation when published as a final rule]
* * * * * * *
Spider, Sri Lanka ornamental tiger | Poecilotheria fasciata | Wherever found | E | [Insert Federal Register citation when published as a final rule]
* * * * * * *

* * * * *

Dated: December 5, 2016.
Stephen Guertin,
Acting Director, U.S. Fish and Wildlife Service.

[FR Doc. 2016-30059 Filed 12-13-16; 8:45 am]

BILLING CODE 4333-15-P